DEPARTMENT OF STATE

[Public Notice 5965]

Renewal of International Security Advisory Board Charter

The Department of State announces the Charter renewal of the International Security Advisory Board (ISAB).

The purpose of the ISAB is to provide the Department with a continuing source of independent advice on all aspects of arms control, disarmament, nonproliferation, political-military issues, international security, and related aspects of public diplomacy. The ISAB will remain in existence for two years after the filing date of the Charter unless terminated or renewed sooner.

For more information, contact Brandy Buttrick, Deputy Executive Director of the International Security Advisory Board, Department of State, Washington, DC 20520, telephone: (202) 647-9336.

Dated: October 26, 2007.
George W. Look,
Executive Director, International Security Advisory Board, Department of State.

[FR Doc. E7-22752 Filed 11-20-07; 8:45 am]

BILLING CODE 4710-27-P